FEDERAL COMMUNICATIONS COMMISSION

Sunshine Act Meeting; FCC To Hold Open Commission Meeting Wednesday, April 25, 2007

April 18, 2007.

The Federal Communications Commission will hold an Open Meeting on the subjects listed below on Wednesday, April 25, 2007, which is scheduled to commence at 9:30 a.m. in Room TW-C305, at 445 12th Street, SW., Washington, DC. With respect only to item #4 listed below, the Commission is waiving the sunshine period prohibition contained in section 1.1203 of the Commission's rules, 47 CFR 1.1203, until 5:30 p.m., Monday, April 23, 2007. Thus, presentations with respect to item #4 will be permitted until that time.

Item No. | Bureau | Subject
1 | Media | Title: Second Periodic Review of the Commission's Rules and Policies Affecting the Conversion to Digital Television (MB Docket No. 03-15, RM-9832). Summary: The Commission will consider a Second Report and Order: Television Labeling Requirements concerning the labeling of television equipment in connection with the transition from analog to digital television.
2 | Media | Title: Third Periodic Review of the Commission's Rules and Policies Affecting the Conversion to Digital Television. Summary: The Commission will consider a Notice of Proposed Rulemaking proposing procedures and rule changes necessary to complete the transition to digital television.
3 | Media | Title: Carriage of Digital Television Broadcast Signals: Amendment to Part 76 of the Commission's Rules (CS Docket No. 98-120). Summary: The Commission will consider a Second Further Notice of Proposed Rulemaking concerning issues related to mandatory cable carriage of digital broadcast television signals after the conclusion of the digital television (“DTV”) transition.
4 | Wireless Telecommunications | Title: Service Rules for the 698-746, 747-762 and 777-792 MHz Bands (WT Docket No. 06-150); Revision of the Commission's Rules to Ensure Compatibility with Enhanced 911 Emergency Calling Systems (CC Docket No. 94-102); Section 68.4(a) of the Commission's Rules Governing Hearing Aid-Compatible Telephones (WT Docket No. 01-309); Biennial Regulatory Review—Amendment of Parts 1, 22, 24, 27, and 90 to Streamline and Harmonize Various Rules Affecting Wireless Radio Services (WT Docket No. 03-264); Former Nextel Communications, Inc. Upper 700 MHz Guard Band Licenses and Revisions to Part 27 of the Commission's Rules (WT Docket No. 06-169); Implementing a Nationwide, Broadband, Interoperable Public Safety Network in the 700 MHz Band (PS Docket No. 06-229); Development of Operational, Technical and Spectrum Requirements for Meeting Federal, State and Local Public Safety Communications Requirements Through the Year 2010 (WT Docket No. 96-86). Summary: The Commission will consider a Report and Order and Further Notice of Proposed rulemaking concerning rules governing wireless licenses in the 698-806 MHz Band, which is spectrum currently occupied by television broadcasters in TV Channels 52-69 and is being made available for wireless services, including public safety and commercial services. It also considers the applicability of rules concerning Enhanced 911 and Hearing-Aid Compatible Telephones to services in the band, as well as to other commercial mobile radio services.
5 | International | Title: The Establishment of Policies and Service Rules for the Broadcasting-Satellite Service at the 17.3-17.7 GHz Frequency Band and the 17.7-17.8 GHz Frequency Band Internationally, and at the 24.75-25.25 GHz Frequency Band for Fixed Satellite Services Providing Feeder Links to the Broadcasting-Satellite Service and for the Satellite Services Operating Bi-directionally in the 17.3-17.8 GHz Frequency Band (IB Docket No. 06-123). Summary: The Commission will consider a Report and Order and Further Notice of Proposed rulemaking concerning processing and service rules for the 17/24 GHz Broadcasting Satellite Service (BSS).
6 | Wireline Competition | Title: Numbering Resource Optimization; Implementation of the Local Competition Provisions of the Telecommunications Act of 1996; Telephone Number Portability (CC Docket Nos. 99-200, 96-98, 95-116). Summary: The Commission will consider a Fourth Order on Reconsideration addressing requests for reconsideration of the Commission's service-specific and technology-specific numbering overlay requirements.
7 | Enforcement | Title: Dynasty Mortgage, L.L.C. Summary: The Commission will consider an Order of Forfeiture regarding violations of the Commission's Do-Not-Call rules.
8 | Media | Title: Reexamination of the Comparative Standards for Noncommercial Educational Applications; Association of America's Public Television Stations' Motion for Stay of Low Power Television Auction No. 81 (MM Docket No. 95-31). Summary: The Commission will consider a Memorandum Opinion and Order and Third Order on Reconsideration concerning petitions for reconsideration against the Reexamination of the comparative Standards for Noncommercial Educational Applicants.
9 | Media | Title: Amendment of Section 73.202(b), Table of Allotments, FM Broadcast Stations. (Rincon, Puerto Rico) (MM Docket No. 00-123; RM-9903). Summary: The Commission will consider a Memorandum Opinion and Order concerning petitions for reconsideration filed by Jose J. Arzuago, Jr. d/b/a Ocean Communications.

Open captioning will be provided for this event. Other reasonable accommodations for people with disabilities are available upon request. Include a description of the accommodation you will need including as much details as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 07-2049 Filed 4-20-07; 1:00 pm]

BILLING CODE 6712-01-M